DEPARTMENT OF TRANSPORTATION

Federal Aviation Administration

14 CFR Part 39

[Docket No. FAA-2005-23478; Directorate Identifier 2005-NM-175-AD; Amendment 39-14602; AD 2006-10-18]

RIN 2120-AA64

Airworthiness Directives; Gulfstream Aerospace LP Model Galaxy and Model Gulfstream 200 Airplanes

AGENCY: Federal Aviation Administration (FAA), Department of Transportation (DOT).

ACTION: Final rule.

SUMMARY: The FAA is adopting a new airworthiness directive (AD) for all Gulfstream Aerospace LP Model Galaxy and Model Gulfstream 200 airplanes. This AD requires revising the Limitations section of the airplane flight manual (AFM) by incorporating revised takeoff performance tables. This AD results from a correction of the power setting logic and table limits in the performance model by the engine manufacturer. We are issuing this AD to ensure that the flightcrew is provided with correct information to ensure a safe takeoff at certain altitudes; inadequate takeoff performance tables used in such conditions could result in reduced control of the airplane during takeoff.

DATES: This AD becomes effective July 5, 2006.

The Director of the Federal Register approved the incorporation by reference of a certain publication listed in the AD as of July 5, 2006.

ADDRESSES: You may examine the AD docket on the Internet at http://dms.dot.gov or in person at the Docket Management Facility, U.S. Department of Transportation, 400 Seventh Street, SW., Nassif Building, Room PL-401, Washington, DC.

Contact Gulfstream Aerospace Corporation, P.O. Box 2206, Mail Station D-25, Savannah, Georgia 31402-2206, for service information identified in this AD.

FOR FURTHER INFORMATION CONTACT: Mike Borfitz, Aerospace Engineer, International Branch, ANM-116, Transport Airplane Directorate, FAA, 1601 Lind Avenue, SW., Renton, Washington 98055-4056; telephone (425) 227-2677; fax (425) 227-1149.

SUPPLEMENTARY INFORMATION:

Examining the Docket

You may examine the airworthiness directive (AD) docket on the Internet at http://dms.dot.gov or in person at the Docket Management Facility office between 9 a.m. and 5 p.m., Monday through Friday, except Federal holidays. The Docket Management Facility office (telephone (800) 647-5227) is located on the plaza level of the Nassif Building at the street address stated in the ADDRESSES section.

Discussion

The FAA issued a notice of proposed rulemaking (NPRM) to amend 14 CFR part 39 to include an AD that would apply to all Gulfstream Aerospace LP Model Galaxy and Model Gulfstream 200 airplanes. That NPRM was published in the Federal Register on January 4, 2006 (71 FR 295). That NPRM proposed to require revising the Limitations section of the airplane flight manual (AFM) by incorporating revised takeoff performance tables.

Comments

We provided the public the opportunity to participate in the development of this AD. We have considered the single comment received.

Request To Withdraw NPRM

Gulfstream asks that, instead of issuing the NPRM, the FAA consider the release of a new AFM as the official mandatory method to incorporate the revised takeoff performance tables, after the revision is approved by the Civil Aviation Administration of Israel (CAAI), which is the airworthiness authority for Israel. Gulfstream states that mandatory incorporation of Israel Aircraft Industries Gulfstream 200 Temporary Revision (TR) 7, dated August 18, 2003, may result in operator indecision when incorporating the TR. Gulfstream notes the reason for this is that TR 7 includes two manual changes, in addition to the revised takeoff performance tables: MOD 10023 aircraft effectivity change, and a revision to the caution message definition of the thrust reverser meaning and action sections. Those temporary changes were superseded with permanent revisions to the AFM; therefore, full incorporation of TR 7 could confuse operators by mandating incorporation of superseded information. Gulfstream adds that TR 7 has been distributed to all Galaxy/Gulfstream 200 operators, and has been incorporated into the AFMs for new production airplanes; therefore, issuing the NPRM would only serve to mandate that operators verify that the correct flight limitation tables are in place.

We do not agree to withdraw the NPRM since we have determined that an unsafe condition exists, and the actions required by this AD are necessary to ensure the continued safety of the affected fleet. In addition, without the issuance of an AD a new AFM cannot be made mandatory.

For the reasons provided by Gulfstream, we do agree to change the requirements in paragraph (f) of this AD to incorporate only Section V, “Performance,” as identified in Gulfstream TR 7. Section V contains the revised takeoff performance tables. We cannot delay the AD to wait for issuance of the new AFM; however, when the new AFM is issued and approved by us, operators may follow their standard procedures for incorporating AFM revisions. Additionally, paragraph (f) of this AD indicates that when information identical to that in Section V of TR 7 is included in general revisions to the AFM, the general revisions may be inserted into the AFM. No further change to the AD is necessary in the regard.

Clarification of Unsafe Condition

We have revised the statement of the unsafe condition in this AD to clarify the effect of using inadequate takeoff performance tables.

Conclusion

We have carefully reviewed the available data, including the comment received, and determined that air safety and the public interest require adopting the AD with the change described previously. This change will neither increase the economic burden on any operator nor increase the scope of the AD.

Costs of Compliance

This AD affects about 82 airplanes of U.S. registry. The AFM revision takes about 1 work hour per airplane, at an average labor rate of $65 per work hour. Based on these figures, the estimated cost of the AD for U.S. operators is $5,330, or $65 per airplane.

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.”

Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD and placed it in the AD docket. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by adding the following new airworthiness directive (AD):

2006-10-18 Gulfstream Aerospace LP (formerly Israel Aircraft Industries, Ltd.): Amendment 39-14602. Docket No. FAA-2005-23478; Directorate Identifier 2005-NM-175-AD.

Effective Date

(a) This AD becomes effective July 5, 2006.

Affected ADs

(b) None.

Applicability

(c) This AD applies to all Gulfstream Model Galaxy and Model Gulfstream 200 airplanes, certificated in any category.

Unsafe Condition

(d) This AD results from a correction of the power setting logic and table limits in the performance model by the engine manufacturer. We are issuing this AD to ensure that the flightcrew is provided with correct information to ensure a safe takeoff at certain altitudes; inadequate takeoff performance tables used in such conditions could result in reduced control of the airplane during takeoff.

Compliance

(e) You are responsible for having the actions required by this AD performed within the compliance times specified, unless the actions have already been done.

Airplane Flight Manual (AFM) Revision

(f) Within 50 flight hours after the effective date of this AD: Revise the Limitations section of the Gulfstream 200 AFM, by incorporating the information specified in Section V, “Performance,” of Israel Aircraft Industries Gulfstream 200 Temporary Revision (TR) 7, dated August 18, 2003, as specified in the TR. Section V of TR 7 includes procedures for incorporating revised takeoff performance tables. Thereafter, operate the airplane according to the limitations and procedures in Section V of TR 7. This may be done by inserting a copy of Section V of Gulfstream TR 7 into the AFM. When Section V of TR 7 has been included in the general revisions of the AFM, the general revisions may be inserted in the AFM, provided the relevant information in the general revision is identical to that in Section V of TR 7.

Alternative Methods of Compliance (AMOCs)

(g)(1) The Manager, International Branch, ANM-116, Transport Airplane Directorate, FAA, has the authority to approve AMOCs for this AD, if requested in accordance with the procedures found in 14 CFR 39.19.

(2) Before using any AMOC approved in accordance with § 39.19 on any airplane to which the AMOC applies, notify the appropriate principal inspector in the FAA Flight Standards Certificate Holding District Office.

Related Information

(h) Israeli airworthiness directive 72-03-05-09, dated September 22, 2003, also addresses the subject of this AD.

Material Incorporated by Reference

(i) You must use Israel Aircraft Industries Gulfstream 200 Temporary

Revision 7, dated August 18, 2003, to the Gulfstream 200 Airplane Flight

Manual, to perform the actions that are required by this AD, unless the AD specifies otherwise. The Director of the Federal Register approved the incorporation by reference of this document in accordance with 5 U.S.C. 552(a) and 1 CFR part 51. Contact Gulfstream Aerospace Corporation, P.O. Box 2206, Mail Station D-25, Savannah, Georgia 31402-2206, for a copy of this service information. You may review copies at the Docket Management Facility, U.S. Department of Transportation, 400 Seventh Street, SW., Room PL-401, Nassif Building, Washington, DC; on the Internet at http://dms.dot.gov; or at the National Archives and Records Administration (NARA). For information on the availability of this material at the NARA, call (202) 741-6030, or go to http://www.archives.gov/federal_register/code_of_federal_regulations/ibr_locations.html.

Issued in Renton, Washington, on May 9, 2006.
Ali Bahrami,
Manager, Transport Airplane Directorate, Aircraft Certification Service.

[FR Doc. 06-4910 Filed 5-30-06; 8:45 am]

BILLING CODE 4910-13-P